DEPARTMENT OF DEFENSE

Department of the Navy

Notice of Intent To Prepare a Supplemental Environmental Impact Statement/Supplemental Overseas Environmental Impact Statement for Employment of Surveillance Towed Array Sensor System Low Frequency Active (SURTASS LFA) Sonar.

AGENCY: Department of the Navy, DoD.

ACTION: Notice.

SUMMARY: Pursuant to the National Environmental Policy Act (NEPA) and Executive Order 12114, the Navy is announcing its intent to prepare a Supplemental Environmental Impact Statement (SEIS)/Supplemental Overseas Environmental Impact Statement (SOEIS) for the employment of SURTASS LFA sonar.

DATES: Written comments regarding the scope of this environmental document must be submitted within 45 days of January 21, 2009.

ADDRESSES: Written comments on the scope of the SURTASS LFA Sonar SEIS/SOEIS should be addressed to: Chief of Naval Operations, Code N872A, c/o SURTASS LFA Sonar SEIS/SOEIS Program Manager, 4100 Fairfax Drive, Suite 730, Arlington, Virginia 22203; or e-mail: eisteam@mindspring.com.

FOR FURTHER INFORMATION CONTACT: Chief of Naval Operations, Code N872A, c/o SURTASS LFA Sonar SEIS/SOEIS Program Manager, 4100 Fairfax Drive, Suite 730, Arlington, Virginia 22203; or e-mail: eisteam@mindspring.com.

SUPPLEMENTARY INFORMATION: The Final Overseas Environmental Impact Statement and Environmental Impact Statement (OEIS/EIS) for the Surveillance Towed Array Sensor System Low Frequency Active (SURTASS LFA) Sonar was completed in January 2001 and supplemented in April 2007 by the SURTASS LFA Sonar Supplemental EIS (SEIS). The Assistant Secretary of the Navy (Installations and Environment) (ASN(I&E)) reviewed the SURTASS LFA Sonar SEIS and, based upon review of the comparative analysis of the potential for environmental and socioeconomic effects from the five alternatives presented in the Final SEIS, announced the decision to employ up to four SURTASS LFA sonar systems with certain geographical restrictions and other mitigation designed to reduce adverse effects on the marine environment. This decision implemented the preferred alternative, Alternative 2, identified in the Final SEIS.

ASN (I&E) found that the analysis in the SEIS had taken the requisite “hard look” at the environmental consequences of the decision to employ the SURTASS LFA sonar and issued the Record of Decision (ROD) on August 15, 2007.

However, in recognition of continued concerns raised in litigation over employment of the SURTASS LFA sonar system, to support issuance of a new Final Rule under the Marine Mammal Protection Act (MMPA) for the taking of marine mammals incidental to employment of SURTASS LFA sonar systems, and to continue the Navy's commitment to responsible stewardship of the marine environment, the Deputy Assistant Secretary of the Navy (Environment) (DASN(E)) has determined that the purposes of NEPA would be furthered by the preparation of an additional supplemental analysis related to employment of the system. This analysis will focus on potential offshore (i.e., greater than 12 nautical miles (nm) (22 kilometers (km)) from any coastline) biologically important areas (OBIAs) in regions of the world where the Navy intends to use the SURTASS LFA sonar systems for routine training, testing, and military operations. The new SEIS/SOEIS will also include further analysis of whether, in some locations, using a larger coastal standoff distance, where the continental shelf extends farther than the current 12 nm standoff distance, is practicable for SURTASS LFA sonar. Further analysis of the potential for cumulative impacts involving other active sonar sources will also be addressed in the new SEIS/SOEIS. Once completed, information developed from these analyses will be used to assist the Navy in determining how to employ SURTASS LFA sonar, including the selection of operating areas that the Navy requires for routine training, testing, and military operations in requests for MMPA Letters of Authorization (LOAs) submitted to the National Marine Fisheries Service (NMFS). NMFS will be a cooperating agency under NEPA regulation (40 CFR 1501.6) for the development of the SEIS/SOEIS. The SEIS/SOEIS will comply with both NEPA and Executive Order 12114.

The Navy and NMFS are soliciting scoping comments on the above topics. With respect to any potential offshore biologically important areas in regions of the world where SURTASS LFA sonar may operate, for purposes of this NEPA analysis these areas are defined in the SURTASS LFA Final OEIS/EIS as areas outside of 12 nm (22 km) from any coastline, including islands, where marine animals of concern (those animals listed under the Endangered Species Act (ESA) and/or marine mammals) congregate in high densities to carry out biologically important activities. Such areas may include migration corridors; breeding and calving grounds; and feeding grounds. To facilitate evaluation of any proposed area, any comment should provide the geographic boundaries of the area, a list of species of concern in the area, the basis or rationale for considering the area (e.g., the biologically important activities taking place for each species), seasonal importance if relevant, and citations to any relevant published literature for the area. The listing of OBIAs is provided in the current Final Rule (50 CFR 216.184).

Federal, state and local agencies, interested organizations and individuals are encouraged to participate in the scoping process for the SEIS/SOEIS. All scoping comments must be postmarked within 45 days from the publication of this notice in the Federal Register and submitted to: Chief of Naval Operations, Code N872A, c/o SURTASS LFA Sonar SEIS/SOEIS Program Manager, 4100 Fairfax Drive, Suite 730, Arlington, Virginia 22203; or e-mail: eisteam@mindspring.com.

Additional information concerning SURTASS LFA Sonar and pertinent environmental documents is available at: http://www.surtass-lfa-eis.com.

Dated: January 8, 2009.
A.M. Vallandingham,
Lieutenant Commander, Judge Advocate General's Corps, U.S. Navy, Federal Register Liaison Officer.

[FR Doc. E9-1041 Filed 1-16-09; 8:45 am]

BILLING CODE 3810-FF-P